DEPARTMENT OF THE INTERIOR

Bureau of Land Management

[OR-027-1020-PI-020H; HAG-07-0204]

Date Change for Steens Mountain Advisory Council Meeting

AGENCY: Bureau of Land Management, Burns District, Interior.

ACTION: Change of Meeting Date.

SUMMARY: The November 15 and 16, 2007, Steens Mountain Advisory Council meeting has been changed to December 6 and 7, 2007. The original Federal Register notice announcing the meeting was published January 18, 2007, page 2306. The meeting session will begin both days at 8 a.m., local time, and will conclude at 4:30 p.m. on day one and at approximately 2 p.m. on day two. The entire meeting is open to the public with public comment scheduled for 11 to 11:30 a.m. both days. The meeting will be held at the Bureau of Land Management, Burns District Office, 28910 Highway 20 West, Hines, Oregon 97738.

FOR FURTHER INFORMATION CONTACT: Additional information concerning the Steens Mountain Advisory Council may be obtained from Rhonda Karges, Environmental Protection Specialist, Burns District Office, 28910 Highway 20 West, Hines, Oregon 97738, (541) 573-4433 or Rhonda_Karges@blm.gov.

Dated: September 19, 2007.
Dana R. Shuford,
Burns District Manager.

[FR Doc. E7-18878 Filed 9-24-07; 8:45 am]

BILLING CODE 4310-33-P